OFFICE OF THE UNITED STATES TRADE REPRESENTATIVE

[Docket No. USTR-2013-0023]

Notice of Determination to Extend Section 301 Investigation of Ukraine

AGENCY: Office of the United States Trade Representative.

ACTION: Notice.

SUMMARY: The United States Trade Representative (Trade Representative) has determined to extend for three months the ongoing Section 301 investigation of certain acts, policies, and practices of the Government of Ukraine with respect to intellectual property rights.

FOR FURTHER INFORMATION CONTACT: Questions regarding this investigation should be directed as appropriate to: Elizabeth Kendall, Director for Intellectual Property and Innovation, Office of the United States Trade Representative, at (202) 395-3580; Isabella Detwiler, Director for Europe, at (202) 395-6146; or Shannon Nestor, Assistant General Counsel, at (202) 395-3150. Additional information on the investigation may be posted at www.ustr.gov, under Trade Topics—Enforcement—Section 301 Investigations.

SUPPLEMENTARY INFORMATION: On May 30, 2013, the Trade Representative initiated a Section 301 investigation of certain acts, policies, and practices of the Government of Ukraine with respect to intellectual property rights. See Identification of Ukraine as a Priority Foreign Country and Initiation of Section 301 Investigation, 78 FR 33886 (June 5, 2013).

Section 304(a)(3)(B) of the Trade Act of 1974, as amended, provides that the Trade Representative may extend this type of investigation for an additional three months upon a determination that the investigation involves complex or complicated issues that require additional time. Pursuant to this provision, the Trade Representative has determined to extend the investigation of certain acts, policies, and practices of the Government of Ukraine with respect to intellectual property rights. Accordingly, the determinations in the investigations will be made by no later than February 28, 2014.

William Busis,
Chair, Section 301 Committee.

[FR Doc. 2013-28806 Filed 11-29-13; 8:45 am]

BILLING CODE 3290-F4-P